DEPARTMENT OF TRANSPORTATION

Federal Aviation Administration

Notice of Opportunity for Public Comment on Federally Obligated Property Release at Scott County Municipal Airport, Oneida, TN

AGENCY: Federal Aviation Administration (FAA), DOT.

ACTION: Notice.

SUMMARY: Under the provisions of title 49, U.S.C. 47153(c), notice is being given that the FAA is considering a request from the Chairman, Scott County Airport Authority to waive the requirement that a 2.11-acre parcel of federally obligated property, located at Scott County Municipal Airport, be used for aeronautical purposes.

DATES: Comments must be received on or before August 23, 2004.

ADDRESSES: Comments on this notice may be mailed or delivered in triplicate to the FAA at the following address: Memphis Airports District Office, 2862 Business Park Drive, Bldg. G, Memphis, TN 38118-1555.

In addition, one copy of any comments submitted to the FAA must be mailed or delivered to Mr. Floyd H. (Brom) Shoemaker, II, Chairman, Scott County Airport Authority, at the following address: Scott County Airport, 2260 Airport Road, Oneida, TN 37841.

FOR FURTHER INFORMATION CONTACT: Peggy S. Kelley, Program Manager, Memphis Airports District Office, 2862 Business Park Drive, Building G, Memphis, TN 38118-1555, (901) 322-8186. The application may be reviewed in person at this same location.

SUPPLEMENTARY INFORMATION: The FAA is reviewing a request by Scott County Airport Authority to release a parcel of land, containing 2.11 acres of federally obligated property at Scott County Municipal Airport. The property will be sold for expansion of an existing business. The land to be released is located on the far side of a much larger tract that was purchased for aviation related development on the northwest side of the airfield. The entire tract had to be purchased to avoid leaving an uneconomic remnant. The land proposed for release is not needed for aviation development and the proceeds from the sale can be used to assist in replacing an existing hangar that is in the OFA.

Any person may inspect the request in person at the FAA office listed above under FOR FURTHER INFORMATION CONTACT.

In addition, any person may, upon request, inspect the request, notice and other documents germane to the request in person at the Scott Airport Authority.

Issued in Memphis, Tennessee, on July 16, 2004.
LaVerne F. Reid,
Manager, Memphis Airports District Office, Southern Region.

[FR Doc. 04-16847 Filed 7-22-04; 8:45 am]

BILLING CODE 4910-13-M